DEPARTMENT OF HEALTH AND HUMAN SERVICES

Food and Drug Administration

Request for Nominations for Nonvoting Member Representing Industry Interests on a Public Advisory Committee; Nonprescription Drugs Advisory Committee

AGENCY: Food and Drug Administration, HHS.

ACTION: Notice.

SUMMARY: The Food and Drug Administration (FDA) is requesting nominations for a nonvoting industry representative to serve on the Nonprescription Drugs Advisory Committee.

DATES: All letters of interest and nominations should be received on or before December 15, 2005.

ADDRESSES: Letters of intent and nominations for membership should be submitted to Jayne Peterson (see FOR FURTHER INFORMATION CONTACT).

FOR FURTHER INFORMATION CONTACT: Jayne Peterson, Advisors and Consultants Staff (HFD-21), Center for Drug Evaluation and Research, Food and Drug Administration, 5600 Fishers Lane (for express delivery, 5630 Fishers Lane, rm. 1093), Rockville, MD 20857, 301-827-7001, e-mail: petersonj@cder.fda.gov.

SUPPLEMENTARY INFORMATION: The agency requests nominations for a nonvoting industry representative to serve on the Nonprescription Drugs Advisory Committee.

I. Function

The function of the committee is to review and evaluate available data concerning the safety and effectiveness of over-the-counter (nonprescription) human drug products for use in the treatment of a broad spectrum of human symptoms and diseases.

II. Selection Procedure

Any industry organization interested in participating in the selection of an appropriate nonvoting member to represent industry interests should send a letter stating that interest to the FDA contact (see FOR FURTHER INFORMATION CONTACT) within 30 days of publication of this notice. Within the subsequent 30 days, FDA will send a letter to each organization that has expressed an interest, attaching a complete list of all such organizations; and a list of all nominees along with their current resumes. The letter will also state that it is the responsibility of the interested organizations to confer with one another and to select a candidate, within 60 days after the receipt of the FDA letter, to serve as the nonvoting member to represent industry interests for a particular committee. If no individual is selected within 60 days, the Commissioner of Food and Drugs will select the nonvoting member to represent industry interests.

III. Application Procedure

Individuals may self nominate and/or an organization may nominate one or more individuals to serve as a nonvoting industry representative. A current curriculum vitae and the name of the committee of interest should be sent to the FDA contact person. FDA will forward all nominations to the organizations expressing interest in participating in the selection process for that committee. (Persons who nominate themselves as nonvoting industry representatives will not participate in the selection process.)

FDA has a special interest in ensuring that women, minority groups, individuals with physical disabilities, and small businesses are adequately represented on its advisory committees, and therefore, encourages nominations for appropriately qualified candidates from these groups. Specifically, in this document, nominations for nonvoting representatives of industry interests are encouraged from drug manufacturing industry.

This notice is issued under the Federal Advisory Committee Act (5 U.S.C. app 2) and 21 CFR part 14, relating to advisory committees.

Dated: November 4, 2005.
Jason Brodsky,
Acting Associate Commissioner for External Relations.

[FR Doc. 05-22562 Filed 11-14-05; 8:45 am]

BILLING CODE 4160-01-S